DEPARTMENT OF COMMERCE

International Trade Administration

[A-570-010, C-570-011]

Certain Crystalline Silicon Photovoltaic Products From the People's Republic of China: Notice of Initiation of Changed Circumstances Reviews, and Consideration of Revocation of the Antidumping and Countervailing Duty Orders, in Part

AGENCY: Enforcement and Compliance, International Trade Administration, Department of Commerce.

SUMMARY: Based on a request from Shenzhen Hello Tech Energy Co., Ltd. (Hello Tech), the U.S. Department of Commerce (Commerce) is initiating changed circumstances reviews (CCR) to consider the possible revocation, in part, of the antidumping duty (AD) and countervailing duty (CVD) orders on certain crystalline silicon photovoltaic products (solar products) from the People's Republic of China (China) with respect to certain off-grid small portable crystalline silicon photovoltaic (CSPV) panels as described below.

DATES: Applicable September 29, 2022.

FOR FURTHER INFORMATION CONTACT: Daniel Alexander, AD/CVD Operations, Office VII, Enforcement and Compliance, International Trade Administration, U.S. Department of Commerce, 1401 Constitution Avenue NW, Washington, DC 20230; telephone: (202) 482-4313.

SUPPLEMENTARY INFORMATION:

Background

On February 18, 2015, Commerce published the AD and CVD orders on solar products from China.¹ On August 8, 2022, Hello Tech, a Chinese producer and exporter of subject merchandise, requested, through CCRs, revocation of the Orders, in part, with respect to CSPV panels, pursuant to section 751(b)(1) of the Tariff Act of 1930, as amended (the Act), and 19 CFR 351.216(b).² Within Hello Tech's CCR request, Hello Tech included a letter from the American Alliance for Solar Manufacturing (the Alliance), a U.S. producer of the domestic like product and a petitioner in the underlying investigations, in which the Alliance stated that it did not oppose the partial revocation of the Orders proposed by Hello Tech.³ No interested parties filed comments opposing the CCR request.

¹ See Certain Crystalline Silicon Photovoltaic Products from the People's Republic of China: Antidumping Duty Order; and Amended Final Affirmative Countervailing Duty Determination and Countervailing Duty Order, 80 Fr 8592 (February 18, 2015) (Orders).

² See Hello Tech's Letter, “Certain Crystalline Silicon Photovoltaic Products from the People's Republic of China: Hello Tech's Resubmitted Request for Changed Circumstances Reviews,” dated August 8, 2022 (CCR Request).

³ Id. at Exhibit 7.

Scope of the Orders

The merchandise covered by these Orders is modules, laminates and/or panels consisting of crystalline silicon photovoltaic cells, whether or not partially or fully assembled into other products, including building integrated materials. For purposes of these Orders, subject merchandise includes modules, laminates and/or panels assembled in China consisting of crystalline silicon photovoltaic cells produced in a customs territory other than China.

Subject merchandise includes modules, laminates and/or panels assembled in China consisting of crystalline silicon photovoltaic cells of thickness equal to or greater than 20 micrometers, having a p/n junction formed by any means, whether or not the cell has undergone other processing, including, but not limited to, cleaning, etching, coating, and/or addition of addition of materials (including, but not limited to, metallization and conductor patterns) to collect and forward the electricity that is generated by the cell.

Excluded from the scope of the Orders are thin film photovoltaic products produced from amorphous silicon (a-Si), cadmium telluride (CdTe), or copper indium gallium selenide (CIGS). Also excluded from the scope of these Orders are modules, laminates and/or panels assembled in China, consisting of crystalline silicon photovoltaic cells, not exceeding 10,000 mm2 in surface area, that are permanently integrated into a consumer good whose function is other than power generation and that consumes the electricity generated by the integrated crystalline silicon photovoltaic cells. Where more than one module, laminate and/or panel is permanently integrated into a consumer good, the surface area for purposes of this exclusion shall be the total combined surface area of all modules, laminates and/or panels that are integrated into the consumer good.

Further, also excluded from the scope of these Orders are any products covered by the existing antidumping and countervailing duty orders on crystalline silicon photovoltaic cells, whether or not assembled into modules, laminates and/or panels, from China.

Additionally, excluded from the scope of these Orders are solar panels that are: (1) less than 300,000 mm2 in surface area; (2) less than 27.1 watts in power; (3) coated across their entire surface with a polyurethane doming resin; and (4) joined to a battery charging and maintaining unit (which is an acrylonitrile butadiene styrene (ABS) box that incorporates a light emitting diode (LED)) by coated wires that include a connector to permit the incorporation of an extension cable. The battery charging and maintaining unit utilizes high-frequency triangular pulse waveforms designed to maintain and extend the life of batteries through the reduction of lead sulfate crystals. The above-described battery charging and maintaining unit is currently available under the registered trademark “SolarPulse.”

Also excluded from the scope of these Orders are off-grid crystalline silicon photovoltaic panels without a glass cover with the following characteristics: (1) total power output of 500 watts or less per panel; (2) maximum surface area of 8,000 cm2 per panel; (3) unit does not include a built-in inverter; (4) unit has visible parallel grid collector metallic wire lines every 2-40 millimeters across each solar panel (depending on model); (5) solar cells are encased in laminated frosted PET material without stitching; ⁴ (6) the panel is encased in polyester fabric with visible stitching which includes a Velcro-type storage pocket and unit closure, or encased within a Neoprene clamshell (depending on model); and (7) includes LED indicator.

⁴ Although the polyester material has stitching on the perimeter of the unit, the cells are not stitched into the PET material.

Merchandise covered by these Orders is currently classified in the Harmonized Tariff Schedule of the United States (HTSUS) under subheadings 8501.61.0000, 8507.20.8030, 8507.20.8040, 8507.20.8060, 8507.20.8090, 8541.40.6015, 8541.40.6020, 8541.40.6030, 8541.40.6035 and 8501.31.8000. These HTSUS subheadings are provided for convenience and customs purposes; the written description of the scope of these Orders is dispositive.

Proposed Partial Revocation of the Orders

The products subject to the proposed revocation are off-grid portable small crystalline silicon photovoltaic panels, with or without a glass cover, with the following characteristics:

(A) total power output of 200 watts or less per panel;

(B) a maximum surface area of 16,000 cm2 per panel;

(C) do not include a built-in inverter;

(D) must include an integrated handle or a handle attached to the package for ease of carry;

(E) must include one or more integrated kickstands for easy installation or angle adjustment; and

(F) must include a wire of not less than 3 meters either permanently connected or attached to the package that terminates in an 8mm diameter male barrel connector.

Initiation of CCRs and Consideration of Revocation of the Orders, in Part

Pursuant to section 751(b) of the Act, when Commerce receives information concerning, or a request from an interested party ⁵ for a review of, a final affirmative determination that resulted in an AD or CVD order, which shows changed circumstances sufficient to warrant a review of an order, Commerce shall conduct a changed circumstances review of the order.⁶ In accordance with 19 CFR 351.216(d), Commerce determines that the information submitted by Hello Tech, and the letter of no opposition to partial revocation of the Orders with respect to the products described by Hello Tech, constitute a sufficient basis to conduct CCRs of the Orders.⁷

⁵ Hello Tech stated in its August CCR Request that it is an exporter of solar panels. As such, Hello Tech is an interested party pursuant to section 771(9)(A) of the Act and 19 CFR 351.102(b)(29)(i).

⁶ See 19 CFR 351.216(d).

⁷ See CCR Request at Exhibit 7.

Section 782(h)(2) of the Act and 19 CFR 351.222(g)(1)(i) provide that Commerce may revoke an order (in whole or in part) if it determines that producers accounting for substantially all of the production of the domestic like product have expressed a lack of interest in the order, in whole or in part. In addition, in the event that Commerce determines an expedited action is warranted, 19 CFR 351.221(c)(3)(ii) permits Commerce to combine the notices of initiation and preliminary results. In its administrative practice, Commerce has interpreted “substantially all” to mean producers accounting for at least 85 percent of the total U.S. production of the domestic like product covered by the order.⁸

⁸ See, e.g., Certain Cased Pencils from the People's Republic of China: Initiation and Preliminary Results of Antidumping Duty Changed Circumstances Review, and Intent To Revoke Order in Part, 77 FR 42276 (July 18, 2012), unchanged in Certain Cased Pencils from the People's Republic of China: Final Results of Antidumping Duty Changed Circumstances Review, and Determination To Revoke Order, in Part, 77 FR 53176 (August 31, 2012).

One domestic producer, the Alliance, stated that it does not object to the partial revocation of the Orders proposed by Hello Tech. However, because the Alliance did not indicate whether it accounts for substantially all of the U.S. production of the domestic like product covered by the Orders, we are not combining this notice of initiation with a preliminary determination, pursuant to 19 CFR 351.221(c)(3)(ii). Rather, we will provide interested parties with an opportunity to address the issue of domestic industry support with respect to the partial revocation of the Orders, as explained below. After examining comments, if any, concerning domestic industry support, we will issue the preliminary results of these CCRs.

Public Comment

Interested parties are invited to provide comments and/or factual information regarding these CCRs, including comments on industry support and the proposed partial revocation language. Comments and factual information may be submitted to Commerce no later than 14 days after the date of publication of this notice. Rebuttal comments and rebuttal factual information may be filed with Commerce no later than seven days after the comments and/or factual information are filed.⁹ All submissions must be filed electronically using Enforcement and Compliance's Antidumping and Countervailing Duty Centralized Electronic Service System (ACCESS).¹⁰ An electronically-filed document must be received successfully in its entirety by ACCESS, by 5 p.m. Eastern Time on the due dates set forth in this notice. Note that Commerce has temporarily modified certain requirements for serving documents containing business proprietary information, until further notice.¹¹

⁹ Submissions of rebuttal factual information must comply with 19 CFR 351.301(b)(2).

¹⁰ See generally 19 CFR 351.303.

¹¹ See Temporary Rule Modifying AD/CVD Service Requirements Due to COVID-19; Extension of Effective Period, 85 FR 41363 (July 10, 2020).

Preliminary and Final Results of the CCRs

Commerce intends to publish in the Federal Register a notice of the preliminary results of these AD and CVD CCRs in accordance with 19 CFR 351.221(b)(4) and (c)(3)(i). Commerce will set forth its preliminary factual and legal conclusions in that notice. Unless extended, Commerce will issue the final results of these CCRs in accordance with the time limits set forth in 19 CFR 351.216(e).

Notification to Interested Parties

This initiation notice is published in accordance with section 751(b)(1) of the Act and 19 CFR 351.221(b)(1).

Dated: September 22, 2022.
Lisa W. Wang,
Assistant Secretary for Enforcement and Compliance.

[FR Doc. 2022-21129 Filed 9-28-22; 8:45 am]

BILLING CODE 3510-DS-P